COMMITTEE FOR PURCHASE FROM PEOPLE WHO ARE BLIND OR SEVERELY DISABLED

Procurement List Proposed Additions and Deletion

AGENCY: Committee for Purchase From People Who Are Blind or Severely Disabled.

ACTION: Proposed additions to and deletion from the Procurement List.

SUMMARY: The Committee is proposing to add services to the Procurement List that will be furnished by nonprofit agencies employing persons who are blind or have other severe disabilities and to delete a service previously furnished by such agency.

Comments Must Be Received On or Before: 4/11/2011.

ADDRESSES: Committee for Purchase From People Who Are Blind or Severely Disabled, Jefferson Plaza 2, Suite 10800, 1421 Jefferson Davis Highway, Arlington, Virginia 22202-3259.

For Further Information or To Submit Comments Contact: Patricia Briscoe, Telephone: (703) 603-7740, Fax: (703) 603-0655, or e-mail CMTEFedReg@AbilityOne.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Base Supply Center, Rock Island Arsenal, 3154 Rodman Avenue, Rock Island, IL.

NPA: Association for Retarded Citizens of Rock Island County, Rock Island, IL.

Contracting Activity: DEPT OF THE ARMY, SR W0K8 USA ROCK ISL ARSENAL, ROCK ISLAND, IL.

Service Type/Location: Base Operations Support, Mark Center Campus, Alexandria, VA.

NPA: Service Source Inc., Alexandria, VA (prime); CW Resources Inc., New Britain, CT (subcontractor); Able Forces, Front Royal, VA (subcontractor).

Contracting Activity: Department of Defense, Acquisition Directorate, Washington Headquarters Service, Washington, DC.

Service Type/Location: Central Issue Facility Service, Fort Hood, TX.

NPA: Skookum Educational Programs, Bremerton, WA.

Contracting Activity: Department of the Army, Mission & Installation Contracting Command Center, Fort Sam Houston, TX.

Service Type/Location: Mail Management Support Service, Philadelphia Naval Business Center, Official Mail Center Carderock, Philadelphia, PA.

NPA: NewView Oklahoma, Inc., Oklahoma City, OK (prime); ServiceSource, Inc., Alexandria, VA (subcontractor); Naval Surface Warfare Center, Carderock Division, Ship Systems Engineering Station, Official Mail Center Carderock, West Bethesda, MD.

NPA: NewView Oklahoma, Inc., Oklahoma City, OK.

Contracting Activity: Department of the Navy, Commander, Fleet and Industrial Supply Center, San Diego, CA.

Deletion

Regulatory Flexibility Act Certification

I certify that the following action will not have a significant impact on a substantial number of small entities. The major factors considered for this certification were:

1. If approved, the action will not result in additional reporting, recordkeeping or other compliance requirements for small entities.

2. If approved, the action may result in authorizing small entities to furnish the service to the Government.

3. There are no known regulatory alternatives which would accomplish the objectives of the Javits-Wagner-O'Day Act (41 U.S.C. 46-48c) in connection with the service proposed for deletion from the Procurement List.

End of Certification

The following service is proposed for deletion from the Procurement List:

Service

Service Type/Location: Recycling Service, Veterans Affairs Medical Center, 1500 East Woodrow Wilson Drive, Jackson, MS.

NPA: Goodwill Industries of Mississippi, Inc., Ridgeland, MS.

Contracting Activity: Department of Veterans Affairs, NAC, Hines, IL.

Patricia Briscoe,
Deputy Director, Business Operations.

[FR Doc. 2011-5616 Filed 3-10-11; 8:45 am]

BILLING CODE 6353-01-P